DEPARTMENT OF ENERGY

Federal Energy Regulatory Commission

[Docket No. CP97-169-003]

Alliance Pipeline L. P.; Notice of Application

March 27, 2002.

Take notice that on March 18, 2002, Alliance Pipeline L.P. (Alliance), pursuant to section 3 of the Natural Gas Act (NGA), and Subparts B and C of Part 153 of the Federal Energy Regulatory Commission's (Commission) regulations under the NGA filed an application to amend its Presidential Permit (Permit) to reflect the actual peak day capacity of the authorized border-crossing facilities between the United States and Canada. The current Permit, issued on September 17, 1998, 84 FERC 61,239 (1998), indicates a capacity of 1.632 Billion cubic feet per day (Bcfd) or 1.593 Bcfd plus fuel. The proposed amendment would have the Permit reflect actual operating experience and results of recent engineering analyses not currently reflected in the Permit, all as more fully set forth in the application, which is on file with the Commission, and open for public inspection. This filing may be viewed on the web at http://www.ferc.gov using the “RIMS” link, select “Docket #” and follow the instructions (call 202-208-2222 for assistance).

Alliance requests that the Commission amend the Presidential Permit to reflect the actual peak day capacity, a flow which could occur in very limited circumstances, of 1.8 Bcfd, inclusive of fuel, for the authorized border-crossing facilities. No new rates or rate schedules are proposed. The facilities will continue to provide improved access to supplies of natural gas and improve the dependability of international energy trade. No changes are proposed to the currently authorized facilities.

Questions regarding this filing should be directed to Dennis Prince, Vice President-Regulatory Strategy and Stakeholder Relations, Alliance Pipeline L.P., Old Shady Oak Road, Eden Prairie, Minnesota 55344-3252 or call (952) 983-1000.

There are two ways to become involved in the Commission's review of this project. First, any person wishing to obtain legal status by becoming a party to the proceedings for this project should, on or before April 17, 2002, file with the Federal Energy Regulatory Commission, 888 First Street, NE, Washington, DC 20426, a motion to intervene in accordance with the requirements of the Commission's rules of practice and procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

If the Commission decides to set the application for a formal hearing before an Administrative Law Judge, the Commission will issue another notice describing that process. At the end of the Commission's review process, a final Commission order approving or denying a certificate will be issued.

Comments, protests and interventions may be filed electronically via the Internet in lieu of paper. See, 18 CFR 385.2001(a)(1)(iii) and the instructions on the Commission's web site under the “e-Filing” link.

Linwood A. Watson, Jr.,
Deputy Secretary.

[FR Doc. 02-7888 Filed 3-29-02; 8:45 am]

BILLING CODE 6717-01-P